NUCLEAR REGULATORY COMMISSION

National Materials Program Working Group; Meeting

AGENCY: Nuclear Regulatory Commission.

ACTION: Notice of formation of working group and public meeting.

SUMMARY: The Nuclear Regulatory Commission (NRC) has formed a working group to provide the Commission with options for maintaining the infrastructure of supporting regulations, guidance and other program elements needed for the nationwide materials program considering the anticipated increase in the number of Agreement States. The working group will be composed of representatives from the Organization of Agreement States (OAS), the Conference of Radiation Control Program Directors, Inc. (CRCPD), and the NRC. The working group will produce a report for the Commission's consideration.

DATES: The working group's first meeting will be held on March 6-8, 2000, at the NRC Headquarters Office, 11555 Rockville Pike, Rockville, Maryland. To facilitate maximum participation and information sharing the working group's meetings will be announced and open to the public. Future meeting notices will be noticed at the NRC web site, News and Information, Public Meetings, Other Meetings: (http://www.nrc.gov/NRC/PUBLIC/meet.html#OTHER).

ADDRESSES: Members of the public may submit comments to David L. Meyer, Chief, Rules and Directives Branch, T-6-D59, U. S. Nuclear Regulatory Commission, Washington, DC 20555-0001. Comments may also be submitted via e-mail at nrcrep@nrc.gov. Comments may be submitted at any time. Comments received after February 1, 2001 will be considered if practical to do so, but the Commission is able to assure consideration only for comments received on or before this date.

To help ensure coordination and sharing of information with the OAS, the CRCPD, and the public, the working group will place information at the Office of State Programs' web site at http://www.hsrd.ornl.gov/nrc/home.html.

FOR FURTHER INFORMATION CONTACT: James Myers, Project Manager, Office of State Programs, U. S. Nuclear Regulatory Commission, Washington, DC 20555. Telephone: 301-415-2328, E-mail: jhm@nrc.gov.

SUPPLEMENTARY INFORMATION: The 31 Agreement States regulate about 70% of the total number of radioactive materials licensees. NRC is forecasting four more Agreement States by FY 2003. This will bring the percentage of licensees regulated by Agreement States to more than 80%. With this increase, NRC and States need to examine options to maintain the infrastructure of supporting regulations, guidance and other program elements, such as event follow-up, information technology sharing and technical support needed for implementation of a nationwide materials program. In addition, current NRC activities in support of the national program infrastructure will have a potentially increased impact on the smaller number of NRC materials licensees in the future.

Additional background information is contained in SECY-99-250, “National Materials Program * * *” dated October 14, 1999 and the Staff Requirements Memorandum (SRM) for SECY-99-250 dated November 23, 1999. (Both documents are available on the Office of State Programs' web site identified earlier in this notice). The Commission has requested that the project be completed by May 1, 2001.

Dated at Rockville, Maryland, this 14th day of February 2000.
For the Nuclear Regulatory Commission.
Paul H. Lohaus,
Director, Office of State Programs.

[FR Doc. 00-4078 Filed 2-18-00; 8:45 am]

BILLING CODE 7590-01-P